NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on June 4-6, 2008, 11545 Rockville Pike, Rockville, Maryland. The date of this meeting was previously published in the Federal Register on Monday, October 22, 2007 (72 FR 59574).

Wednesday, June 4, 2008, Conference Room T-2B3, Two White Flint North, Rockville, Maryland

8:30 a.m.-8:35 a.m.: Opening Remarks by the ACRS Chairman (Open)—The ACRS Chairman will make opening remarks regarding the conduct of the meeting.

8:35 a.m.-10 a.m.: ARTIST Test Program(Open)—The Committee will hear presentations by and hold discussions with representatives of the NRC staff regarding the findings from the ARTIST Tests on aerosol retention in the secondary side of a steam generator, and related matters.

10:15 a.m.-11:45 a.m.: Risk Assessment Standardization Project (Open)—The Committee will hear presentations by and hold discussions with representatives of the NRC staff regarding the Risk Assessment Standardization Project (RASP) and related matters.

1:45 p.m.-3:45 p.m.: Overview of the U.S. Evolutionary Power Reactor (EPR) Design (Open)—The Committee will hear presentations by and hold discussions with representatives of the NRC staff and AREVA Nuclear Power Inc., regarding design features of the EPR and related matters.

4 p.m.-5 p.m.: Status of the Development of Rules and Regulatory Guidance in the areas of Safeguards and Security(Open)—The Committee will hear presentations by and hold discussions with representatives of the NRC staff regarding the status of activities associated with the development of rules and regulatory guidance in the safeguards and security areas.

5 p.m.-5:30 p.m.: Status of the Quality Assessment of Selected Research Projects(Open)—The Committee will hold discussions with the Chairmen of the ACRS Panels regarding the status of the quality assessment of the research projects on: FRAPCON/FRAPTRAN Code work at the Pacific Northwest National Laboratory; and NUREG-6943, “Study of Remote Visual Methods to Detect Cracking in Reactor Components.”

5:45 p.m.-7 p.m.: Preparation of ACRS Report(Open)—The Committee will prepare and discuss the proposed ACRS report on the ARTIST Test Program.

Thursday, June 5, 2008, Conference Room T-2B3, Two White Flint North, Rockville, Maryland

8:30 a.m.-8:35 a.m.: Opening Remarks by the ACRS Chairman (Open)—The ACRS Chairman will make opening remarks regarding the conduct of the meeting.

8:35 a.m.-9:30 a.m.: Future ACRS Activities/Report of the Planning and Procedures Subcommittee(Open)—The Committee will discuss the recommendations of the Planning and Procedures Subcommittee regarding items proposed for consideration by the full Committee during future ACRS meetings. It will hear a report of the Planning and Procedures Subcommittee on matters related to the conduct of ACRS business, including anticipated workload and member assignments.

9:30 a.m.-9:45 a.m.: Reconciliation of ACRS Comments and Recommendations(Open)—The Committee will discuss the responses from the NRC Executive Director for Operations to comments and recommendations included in recent ACRS reports and letters.

10 a.m.-11:15 a.m.: Preparation for Meeting with the Commission (Open)—The Committee will hold discussions in preparation for their meeting with the Commission on the following topics: Safety Research Program Report, Digital I&C Matters, State-of-the-Art Reactor Consequence Analysis Program, ESBWR Design Certification, and Extended Power Uprates and related Technical Issues.

1:30 p.m.-3:30 p.m.: Meeting with the Commission(Open)—The Committee will meet with the Commission to discuss topics noted above.

3:45 p.m.-6 p.m.: Preparation of ACRS Report(Open)—The Committee will continue its discussion of a proposed ACRS report on the ARTIST Test Program.

Friday June 6, 2008, Conference Room T-2B3, Two White Flint North, Rockville, Maryland

8:30 a.m.-8:35 a.m.: Opening Remarks by the ACRS Chairman (Open)—The ACRS Chairman will make opening remarks regarding the conduct of the meeting.

8:35 a.m.-10:30 a.m.: Overview of the US-Advanced Pressurized Water Reactor (US-APWR) Design(Open)—The Committee will hear presentations by and hold discussions with representatives of the NRC staff and Mitsubishi Heavy Industries, Ltd., regarding design features of the US-APWR and related matters.

10:45 a.m.-11:45 a.m.: Status of NRC Staff Activities Associated with the Resolution of Generic Safety Issue (GSI)-191, “Assessment of Debris Accumulation on Pressurized-Water Reactor (PWR) Sump Performance”(Open)—The Committee will hear presentations by and hold discussions with representatives of the NRC staff regarding the status of NRC staff activities associated with the resolution of GSI-191.

1:15 p.m.-1:30 p.m.: Miscellaneous(Open)—The Committee will discuss matters related to the conduct of Committee activities and matters and specific issues that were not completed during previous meetings, as time and availability of information permit.

Procedures for the conduct of and participation in ACRS meetings were published in the Federal Register on September 26, 2007 (72 FR 54695). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

Further information regarding topics to be discussed, whether the meeting has been canceled or rescheduled, as well as the Chairman's ruling on requests for the opportunity to present oral statements and the time allotted therefor can be obtained by contacting Mr. Girija S. Shukla, Cognizant ACRS staff (301-415-6855), between 7:30 a.m. and 4 p.m., (ET). ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: May 14, 2008.
Andrew L. Bates,
Advisory Committee Management Officer.

[FR Doc. E8-11232 Filed 5-19-08; 8:45 am]

BILLING CODE 7590-01-P